DEPARTMENT OF TRANSPORTATION

National Highway Traffic Safety Administration

Reports, Forms, and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on November 26, 2007 (72 FR 66026-66028).

DATES: Comments must be submitted on or before March 3, 2008.

ADDRESSES: Send comments, within 30 days, to the Office of Information and Regulatory Affairs, Office of Management and Budget, 725-17th Street, NW., Washington, DC 20503, Attention NHTSA Desk Officer.

FOR FURTHER INFORMATION CONTACT: John Siegler at the National Highway Traffic Safety Administration, Office of Research and Technology (NTI-132), 202-366-3976, 1200 New Jersey Ave, SE., W46-474, Washington, DC 20590.

SUPPLEMENTARY INFORMATION:

National Highway Traffic Safety Administration

Title: Evaluation Surveys for Impaired Driving and Safety Belt Interventions.

OMB Number: 2127-0646.

Type of Request: Revision of the previously approved collection of information.

Abstract: The National Highway Traffic Safety Administration proposes to conduct a series of telephone surveys that will examine the effectiveness of multiple National and State Click It or Ticket mobilizations and impaired driving crackdowns designed to curb impaired driving and/or raise belt use. The National and State telephone surveys would be conducted during the mid 2008-mid 2011 time period. Since Congress has authorized NHTSA to spend millions of dollars annually to conduct National and State mobilizations, NHTSA must account for whether these initiatives were effective. The National telephone surveys will be administered to randomly selected samples of 1,600 persons age 18 and older. State surveys will be administered according to media markets where paid media was purchased and can range from as few as 400 participants per media market surveyed in a State. An essential part of this evaluation effort is to compare baseline and post-intervention measures of attitudes, intervention awareness, and (relevant) self-reported behavior to determine if the interventions were associated with changes on those indices.

Affected Public: Randomly selected members of the general public in telephone households.

Estimated Total Annual Burden: 27,467 hours (164,800 interviews averaging 10 minutes each).

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Authority: 44 U.S.C. 3506(c)(2)(A).

Marilena Amoni,
Associate Administrator, Research and Program Development

[FR Doc. E8-1758 Filed 1-30-08; 8:45 am]

BILLING CODE 4910-59-P